DEPARTMENT OF THE INTERIOR

Bureau of Land Management

[ID090-01-2822-JL-F199]

Emergency Closure

AGENCY: Bureau of Land Management, Interior.

ACTION: Notice of Emergency Closure.

SUMMARY: This notice closes roads, trails, and all cross country travel to mechanized vehicles (motorized vehicles and mountain bikes) on BLM administered lands within the perimeter of the Frozen Dog Fire in Gem County, Idaho.

EFFECTIVE DATE: This Emergency Closure Order is effective immediately through September 30, 2003.

ADDRESSES: Bureau of Land Management, Four Rivers Field Office, 3948 Development Ave., Boise, Idaho 83705.

FOR FURTHER INFORMATION CONTACT: Daryl Albiston, Four Rivers Field Manager, (208) 384-3300.

SUPPLEMENTARY INFORMATION: The Frozen Dog fire burned portions of public lands in sections 2, 3, 10 and 11 of Township 6 North, Range 1 West, Boise Meridian, Idaho. The emergency closure is intended to protect soil and watershed values. The closure will be in effect immediately and will expire September 30, 2003. Exceptions to this closure include vehicle use for administrative and emergency purposes. Under special circumstances, the authorized officer may issue a permit allowing vehicle access into the area for specific purposes. Definitions: (a) “Public lands” means any lands or interests in lands owned by the United States and administered by the Secretary of the Interior through the Bureau of Land Management; (b) “Authorized Officer” means any employee of the Bureau of Land Management who has been delegated the authority to perform the duties described in this order; (c) “Emergency vehicles” means any fire, law enforcement or military vehicles used for emergency purposes; (d) “Administrative vehicles” refers to any vehicles used by an employee, agent or designated representative of the federal government, or one of it's contractors, in the course of their employment, agency or representation. This closure is being established and administered by the Bureau of Land Management Authority for this action is found in CFR Title 43, subpart 8360.0-3 and complies with CFR Title 43, subpart 8364.1 Closure and Restriction Orders. Violation of this closure order is in accordance with CFR Title 43, subpart 8360.0-7.

Dated: October 1, 2001.
Daryl Albiston,
Four Rivers Field Manager.

[FR Doc. 01-27918 Filed 11-6-01; 8:45 am]

BILLING CODE 4310-66-P